DEPARTMENT OF JUSTICE

[OMB Number 1110-0021]

FBI National Academy Post-Graduate Questionnaires; Proposed Collection, Comments Requested; Approval for a Revised Collection; FBI National Academy Post-Graduate Questionnaire for Graduates; FBI National Academy Post-Graduate Questionnaire for Supervisors of Graduates

ACTION: 60-Day notice.

The Department of Justice (DOJ), Federal Bureau of Investigation (FBI), Training Division's Curriculum Management Section (CMS) will be submitting the following information collection request to the Office of Management and Budget (OMB) for review and approval in accordance with the Paperwork Reduction Act of 1995. The proposed information collection is published to obtain comments from the public and affected agencies. Comments are encouraged and will be accepted for 60 days until April 7, 2014. This process is conducted in accordance with 5 CFR 1320.10.

If you have comments (especially on the estimated public burden or associated response time), suggestions, or need a copy of the proposed information collection instrument with instructions or additional information, please contact Keith Shirley, Unit Chief, Evaluation and Accreditation Unit, Training Division, Federal Bureau of Investigation, Quantico, Virginia 22135. Written comments and suggestions from the public and affected agencies concerning the proposed collection of information are encouraged. Your comments should address one or more of the following three points:

(1) Evaluate whether the proposed collection of information is necessary for the proper performance of the functions of the agency/component, including whether the information will have practical utility;

(2) Evaluate the accuracy of the agency's/component's estimate of the burden of the proposed collection of the information, including the validity of the methodology and assumptions used;

(3) Enhance the quality, utility, and clarity of the information to be collected; and minimize the burden of the collection of information on those who are to respond, including the use of appropriate automated, electronic, mechanical, or other technological collection techniques or other forms of information technology, e.g., permitting electronic submission of responses.

Overview of This information

1. Type of Information Collection:

Approval of a Revised Collection.

2. Title of the Forms:

FBI National Academy Post-Graduate Questionnaire for Graduates.

FBI National Academy Post-Graduate Questionnaire for Supervisors of Graduates.

3. Agency Form Number, if any, and the applicable component of the department sponsoring the collection:

Form Number: 1110-0021.

Sponsor: Training Division of the Federal Bureau of Investigation (FBI), Department of Justice (DOJ).

4. Affected Public who will be asked or required to respond, as well as a brief abstract:

Primary: FBI National Academy graduates and their identified supervisors represents state and local police departments, sheriffs' departments, military police organizations, and federal law enforcement agencies from the United States and over 150 foreign nations.

Brief Abstract: This collection is requested by FBI National Academy. These questionnaires have been designed to collect feedback from FBI National Academy students regarding their courses and instructors. The results are used to help determine if the FBI National Academy program is functioning as intended and meeting its goals and objectives. We will utilize the students' comments to improve the current curriculum.

5. An estimate of the total number of respondents and the amount of time estimated for an average respondent to respond:

Approximately 1,000 FBI National Academy graduates per year will respond to the FBI National Academy Post-Graduate Questionnaire for Graduates. It is predicted that we will receive a 50% response rate. The average response time for reading the questionnaire directions for the FBI National Academy Post-Graduate Questionnaire for Graduates is estimated to be two (2) minutes; time to complete the questionnaire is estimated to be 30 minutes. Thus the total time to complete the Post-Graduate Questionnaire for Graduates is 32 minutes.

There are approximately 1,000 FBI National Academy graduates who have identified their supervisors that will respond to the FBI National Academy Post-Graduates Questionnaire for Supervisors of Graduates. It is predicted that we will receive a 50% response rate. The average response time for reading the directions for the FBI National Academy Post-Graduate Questionnaire for Supervisors of Graduates is estimated to be 2 minutes; time to complete the questionnaire is estimated to be 30 minutes. Thus the total time to complete the Post-Graduate Questionnaire for Supervisors for Graduates is 32 minutes.

The total estimated time to complete each questionnaire per respondent for each group is 32 minutes.

6. An estimate of the total public burden (in hours) associated with the collection:

Given that approximately 50% of those surveyed (or 500 from each group) will respond, the total public burden for completing questionnaires is 533 hours.

For additional information, contact: Jerri Murray, Department Clearance Officer, U.S. Department of Justice, Policy and Planning Staff, Justice Management Division, Two Constitution Square, 145 N Street NE., Room 3W-1407B, Washington, DC 20530.

Dated: January 30, 2014.
Jerri Murray,
Department Clearance Officer for PRA, U.S. Department of Justice.

[FR Doc. 2014-02270 Filed 2-3-14; 8:45 am]

BILLING CODE 4410-02-P